INTERNATIONAL TRADE COMMISSION

[Investigation No. 337-TA-675]

In the Matter of Certain Wireless Communications Devices and Components Thereof; Notice of Commission Determination Not To Review an Initial Determination Granting a Joint Motion To Terminate the Investigation Based on Withdrawal of the Complainant; Termination of the Investigation

AGENCY: U.S. International Trade Commission.

ACTION: Notice.

SUMMARY: Notice is hereby given that the U.S. International Trade Commission has determined not to review an initial determination (“ID”) (Order No. 10) of the presiding administrative law judge (“ALJ”) granting a joint motion by complainant and respondents to terminate the investigation based on withdrawal of the complaint.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On May 4, 2009, the Commission instituted an investigation under section 337 of the Tariff Act of 1930, based on a complaint filed by SPH America, LLC of Vienna, VA (“SPH”) on March 25, 2009, and amended on April 17, 2009. 74 FR 20500 (May 4, 2009). The amended complaint alleged violations of section 337 in the importation into the United States, the sale for importation, or the sale within the United States after importation of certain wireless communications devices and components thereof by reason of infringement of certain claims of United States Patent Nos. RE 40,385 and 5,960,029. The amended complaint named nine respondents: Kyocera Corporation of Kyoto, Japan; Kyocera Wireless Corporation of San Diego, CA; Kyocera Sanyo Telecom, Inc. of Woodland Hills, CA; MetroPCS Communications, Inc. of Richardson TX; Metro PCS Wireless of Dallas, TX; Sprint Nextel Corporation of Overland Park, KS; América Móvil of Mexico; TracFone Wireless, Inc., of Miami FL; and Virgin Mobile USA, Inc., of Warren, NJ.

On July 2, 2009, SPH and respondents filed a joint motion to terminate the investigation in its entirety based on withdrawal of the complaint by SPH as to all respondents. On July 15, 2009, the Commission investigative attorney filed a response in support of the joint motion to terminate the investigation.

On July 20, 2009, the ALJ issued Order No. 10 granting the joint motion to terminate the investigation. None of the parties petitioned for review of Order No. 10.

The Commission has determined not to review the ID. Accordingly, this investigation is terminated.

The authority for the Commission's determination is contained in section 337 of the Tariff Act of 1930, as amended (19 U.S.C. 1337), and in section 210.42(h) of the Commission's Rules of Practice and Procedure (19 CFR 210.42(h)).

Issued: August 7, 2009.
By order of the Commission.
Marilyn R. Abbott,
Secretary to the Commission.

[FR Doc. E9-19511 Filed 8-13-09; 8:45 am]

BILLING CODE 7020-02-P